DEPARTMENT OF DEFENSE

Department of the Army; Corps of Engineers

Intent to Prepare a Draft Environmental Impact Statement on the Proposed Section 227 National Shoreline Erosion Control Demonstration Project, 63rd Street, “Hotspot” Miami Beach, Dade County, FL

AGENCY: Department of the Army, Corps of Engineers, DOD.

ACTION: Notice of intent.

SUMMARY: The Jacksonville District, U.S. Army Corps of Engineers (Corps) intends to prepare a Technical Report and 100% Plans and Specifications with a Draft Environmental Impact Statement (DEIS) for the placement of an innovative breakwater design to help control erosion along the upcoming Test Fill at North Miami Beach using a domestic upland sand source. The proposed project is to be constructed from NE. 63rd Street to NE. 65th Street, Miami Beach, Dade County, FL. The Secretary of the Army is responsible for report approval. a collaborative effort between the Jacksonville District and Waterways Experiment Station, Vicksburg, MS.

FOR FURTHER INFORMATION CONTACT: Paul C. Stevenson, U.S. Army Corps of Engineers, Planning Division, Plan Formulation Branch, 701 San Marco Blvd, Jacksonville, FL, 32207, paul.c.stevenson@usace.army.mil by e-mail, or phone 904-232-3747.

SUPPLEMENTARY INFORMATION: a. Authorization. Authority and funds for the project are provided by section 227, of the Water Resources Development Act (WRDA) of 1996, as amended. The proposed section 227, National Shoreline Erosion Control Demonstration Project, 63rd Street, “Hotspot”, Miami Beach, Dade County, Florida, has awarded a contract to URS Group to complete 100% plans and specifications for an innovative breakwater to help control erosion along the Dade County Beach Erosion Control and Hurricane Protection (BEC&HP) Project in the same location. The BEC&HP for Dade County, Florida was authorized by the Flood Control Act of 1968 (with supplemental Appropriation Act of 1985 and WRDA 1986) to protect, reduce the loss of public beachfront and to prevent or reduce periodic damages and potential risk life, health and property in the developed lands adjacent to the beach.

b. Study Area: The project area begins at NE. 63rd Street and continues north to NE. 65th Street, Miami Beach, FL, an erosion hot spot.

c. Project Scope: The proposed project area is very specific to the erosion hot spot area of Miami Beach, between NE. 63rd Street and NE. 65th Street. The proposed project footprint will cover approximately 1,800 linear foot by 40-foot wide and 4.5 to 6-foot high, covered by at least one foot of water at Mean Low Water (MLW), 150-foot from the toe of fill.

d. Preliminary Alternatives: The DEIS will evaluate the No Action Plan and the nearshore Submerged Artificial Reef Training (SMART) structure. SMART is proposed approximately 150-foot from the toe of fill for the Test Beach Renourishment at Miami Beach, in the vicinity of 63rd Street, “Hotspot”, Miami Beach, FL. The SMART design consists of groupings of reef modules in 200-foot by 40-foot segments, attached to an articulated armor concrete mat, parallel to the shoreline for a total length of 1,800-foot. The artificial reef modules would vary in size from 2,400 (4.5-foot high) pounds to 9,800 (6-foot high) pounds and be covered by a minimum of 1-foot of water at MLW. The reef modules would be anchored to the mats to prevent “rolling”. Mat ends would be free of reefs modules to help prevent scouring. The SMART design breakwater is proposed to help control erosion along the renourished and provide environmental benefits (see ftp site ftp://ftp.saj.usace.army.mil/pub/uploads/k3cdstjv/URSMiamiHotSpotSection227/ for the 30% submittal).

e. Issues: This DEIS will evaluate the potential impacts of the innovative submerged breakwater. The environmental analysis will incorporate the results of studies/surveys of environmental resources within the proposed project area and cumulative effects the proposed structure may produce.

f. Scoping: Scoping for the section 227 National Shoreline Erosion Control Development and Demonstration Project, 63rd Street, “Hotspot”, Miami Beach, Date County, FL was initiated April 28, 2003, via letter. A scoping meeting and teleconference was held April 14, 2003, with interested resource agency participants. The proposed project area has been scoped for several previous Environmental Impact Statements (EIS) and Environmental Assessments in the past. We invite the participation of affected Federal, State and local agencies, affected Indian tribes, other interested private organizations and the public.

g. DEIS Preparation: The forecasted completion date for the EIS and National Environmental Policy Act work is February 4, 2004.

Dated: May 1, 2003.
George M. Strain,
Acting Chief, Planning Division.

[FR Doc. 03-12155 Filed 5-14-03; 8:45 am]

BILLING CODE 3710-M